DEPARTMENT OF COMMERCE

International Trade Administration

[A-588-703]

Internal Combustion Forklift Trucks From Japan; Corrected Final Results of Expedited Sunset Review and Continuation of Antidumping Order

AGENCY: Import Administration, International Trade Administration, Department of Commerce.

ACTION: Notice of Correction to Final Results of Expedited Sunset Review and Continuation of Antidumping Order: Internal Combustion Forklift Trucks from Japan.

SUMMARY: On August 5, 1999, the Department of Commerce (the “Department”) published in the Federal Register the final results of the expedited sunset review of the antidumping duty order on internal combustion forklift trucks from Japan (64 FR 30962). On June 2, 2000, the Department published the notice of continuation of this order (65 FR 35323). Subsequent to the publication of these notices, we identified an inadvertent error in the “Scope” section of the notices. Therefore, we are correcting and clarifying these inadvertent errors.

The error lies in the first sentence of the scope section of each notice: “The merchandise subject to this antidumping duty order is internal combustion industrial forklift trucks, with a lifting capacity of 2,000 to 5,000 pounds, from Japan.” This sentence should be replaced with: “The merchandise subject to this antidumping duty order is internal combustion industrial forklift trucks, with a lifting capacity of 2,000 to 15,000 pounds, from Japan.”

Effective Date: April 17, 2000.

FOR FURTHER INFORMATION CONTACT: Kathryn B. McCormick or James Maeder, Office of Policy for Import Administration, International Trade Administration, U.S. Department of Commerce, 14th Street & Constitution Avenue, NW., Washington, DC 20230: telephone (202) 482-1930 and (202) 482-3330, respectively.

This correction is issued and published in accordance with sections 751(h) and 777(i) of the Act.

Dated: June 27, 2000.
Troy H. Cribb,
Acting Assistant Secretary for Import Administration.

[FR Doc. 00-16950 Filed 7-3-00; 8:45 am]

BILLING CODE 3510-DS-P